DEPARTMENT OF HOMELAND SECURITY

Coast Guard

33 CFR Part 117

[CGD08-03-022]

Drawbridge Operation Regulations; Back Bay of Biloxi, Biloxi, MS

AGENCY: Coast Guard, DHS.

ACTION: Notice of temporary deviation from regulations.

SUMMARY: The Commander, Eighth Coast Guard District, has issued a temporary deviation from the regulation governing the operation of the Popps Ferry Bascule Span Highway Bridge across the Back Bay of Biloxi, mile 8.0, at Biloxi, Harrison County, MS. This deviation allows the bridge to remain closed to navigation on June 5, 2003. The deviation is necessary to conduct emergency repairs to the drawbridge.

DATES: This deviation is effective from 8:30 a.m. through 5:30 p.m. on June 5, 2003.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is (504) 589-2965. The Bridge Administration Branch of the Eighth Coast Guard District maintains the public docket for this temporary deviation.

FOR FURTHER INFORMATION CONTACT: Kay Wade, Bridge Administration Branch, telephone (504) 589-2965.

SUPPLEMENTARY INFORMATION: The City of Biloxi has requested a temporary deviation in order to replace the hydraulic fluid in the hydraulic system of the bascule span bridge across the Back Bay of Biloxi at mile 8.0 at Biloxi, Harrison County, Mississippi. This maintenance is necessary to replace contaminated hydraulic fluid which is damaging the bridge's hydraulic system. This temporary deviation will allow the bridge to remain in the closed-to-navigation position from 8:30 a.m. through 5:30 p.m. on Thursday, June 5, 2003.

The bascule span bridge has a vertical clearance of 25 feet above mean high water, elevation +0.8 feet Mean Sea Level and 26.6 feet above mean low water, elevation −0.8 Mean Sea Level in the closed-to-navigation position. Navigation at the site of the bridge consists mainly of tows with barges and very little recreational craft. Due to prior experience, as well as coordination with waterway users, it has been determined that this one day closure will not have a significant effect on these vessels. The bridge normally opens to pass navigation an average of 125 times per month. In accordance with 33 CFR 117.675(c), the draw of the Popps Ferry Road bridge, mile 8.0, at Biloxi, shall open on signal; except that, from 7:30 a.m. to 9 a.m. and from 4:30 p.m. to 6 p.m. Monday through Friday, except Federal holidays, the draw need not be opened for passage of vessels. The draw shall open at any time for a vessel in distress. The bridge will not be able to open for emergencies during the closure period. Alternate routes are not available.

In accordance with 33 CFR 117.35(c), this work will be performed with all due speed in order to return the bridge to normal operation as soon as possible. This deviation from the operating regulations is authorized under 33 CFR 117.35.

Dated: May 14, 2003.
Marcus Redford,
Bridge Administrator.

[FR Doc. 03-13059 Filed 5-23-03; 8:45 am]

BILLING CODE 4910-15-P